DEPARTMENT OF TRANSPORTATION

Federal Aviation Administration

Seventh Meeting, RTCA Special Committee 216: Aeronautical System Security

AGENCY: Federal Aviation Administration (FAA), DOT.

ACTION: Notice of RTCA Special Committee 216 meeting Aeronautical Systems Security.

SUMMARY: The FAA is issuing this notice to advise the public of a meeting of RTCA Special Committee 216: Aeronautical Systems Security.

DATES: The meeting will be held on January 14-16, 2009. January 14-15, from 9 a.m. to 5 p.m., and January 16, from 9 a.m. to 12 p.m.

ADDRESSES: John A. Volpe National Transportation Systems Center, U.S. DOT/Research and Innovative Technology Administration, 55 Broadway, Cambridge, MA 02142-1093. Our host is Kevin Harnett, 617-699-7086 (cell), 617-494-2604 (work). Directions: http://www.volpe.dot.gov/about/visiting.html. Suggest a cab from Logan Airport to Cambridge. Map http://maps.google.com/maps?f=q&hl=en&geocode=&q=55+Broadway,+Cambridge,+MA&sll=37.0625,-95.677068&sspn=34.945679,69.697266&ie=UTF8&ll=42.36506,-71.085727&spn=0.00937,0.017016&z=16, Volpe Web site: http://www.volpe.dot.gov/. All visitors will need to go through security screening. Once through the screening, you will be directed to the meeting which is Room 120 and located on the first floor.

FOR FURTHER INFORMATION CONTACT: RTCA Secretariat, 1828 L Street, NW., Suite 805, Washington, DC 20036-5133; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Special Committee 216 meeting.

Note: The change in meeting location to Cambridge, MA, was made due anticipated travel and housing difficulties in the Washington, DC, area just prior to the Presidential Inauguration. The agenda will include:

• Opening Session (Welcome, Introductions and Administrative Remarks, Agenda Overview).

• Approval of Summary of the Sixth meeting held on 5-7 November 2008, RTCA Paper No. 307-08/SC216-013.

• Subgroup and Action Item Reports.

• EUROCAE WG-72 Report.

• Other Industry Activities Related to Security—Reports and presentations.

• Subgroup Breakout Sessions.

• Subgroups Report on Breakouts.

• Establish Dates, Location and Agenda for Next Meeting.

• Any Other Business.

• Closing Session (Any Other Business, Assignment/Review of Future Work, Establish Agenda, Date and Place of Next Meeting, Closing Remarks, Adjourn).

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on December 17, 2008.
Meredith Gibbs,
Staff Specialist, RTCA Advisory Committee.

[FR Doc. E8-30644 Filed 12-23-08; 8:45 am]

BILLING CODE 4910-13-P